DEPARTMENT OF AGRICULTURE

Forest Service

Sequoia National Forest; California; Piute Mountains Travel Management Plan; Correction

AGENCY: Forest Service, USDA.

ACTION: Notice of intent to prepare an environmental impact statement; Correction.

SUMMARY: The Forest Service published a document in the Federal Register on February 18, 2011, concerning a notice of intent to prepare an environmental impact statement for the Piute Mountains Travel Management Plan.

FOR FURTHER INFORMATION CONTACT: Warren L. Niemi, 559-784-1500, extension 1137.

Correction

In the Federal Register of February 18, 2011, in FR Doc. 2011-3698, on page 9539, in the third column, delete item No. 12.

Dated: February 23, 2011.
Debra L. Whitman,
Acting Forest Supervisor.

[FR Doc. 2011-4464 Filed 2-28-11; 8:45 am]

BILLING CODE 3410-11-P